ENVIRONMENTAL PROTECTION AGENCY

[ER-FRL-8993-5]

Environmental Impacts Statements; Notice of Availability

Responsible Agency: Office of Federal Activities, General Information (202) 564-1399 or http://www.epa.gov/compliance/nepa/.

Weekly receipt of Environmental Impact Statements

Filed 10/25/2010 Through 10/29/2010

Pursuant to 40 CFR 1506.9.

Notice

In accordance with Section 309(a) of the Clean Air Act, EPA is required to make its comments on EISs issued by other Federal agencies public. Historically, EPA has met this mandate by publishing weekly notices of availability of EPA comments, which includes a brief summary of EPA's comment letters, in the Federal Register. Since February 2008, EPA has been including its comment letters on EISs on its Web site at: http://www.epa.gov/compliance/nepa/eisdata.html. Including the entire EIS comment letters on the Web site satisfies the Section 309(a) requirement to make EPA's comments on EISs available to the public. Accordingly, on March 31, 2010, EPA discontinued the publication of the notice of availability of EPA comments in the Federal Register.

EIS No. 20100430, Draft EIS, FHWA, AL, Helena Bypass Project, Proposal to Construct a Bypass from County Road 51 in Helena to State Route 261 near Bearden Road, Shelby County, AL, Comment Period Ends: 12/20/2010, Contact: Lynne Urquhart 334-274-6371.

EIS No. 20100431, Final EIS, USFS, WA, Dosewallips Road Washout Project, To Reestablish Road Access to both Forest Service Road (FSR) 2610 and Dosewallips Road, Hood Canal Ranger District Olympic National Forest, Olympic National Park, Jefferson County, WA, Wait Period Ends: 12/06/2010, Contact: Tim Davis 360-965-2375.

EIS No. 20100432, Draft Supplement, TVA, TN, Sequoyah Nuclear Plants Units 1 and 2, Application for License Renewal, Implementation, Hamilton County, TN, Comment Period Ends: 12/20/2010, Contact: Amy Henry 865-632-4045.

EIS No. 20100433, Final EIS, USFS, CA, Plumas National Forest Public Motorized Travel Management, Implementation, Plumas National Forest, Plumas, Lassen, Yuba, Butte and Sierra Counties, CA, Wait Period Ends: 12/06/2010, Contact: Peter Hochrein 530-283-7718.

EIS No. 20100434, Draft EIS, BR, WA, Odessa Subarea Special Study, To Replace Groundwater Currently Used for Irrigation, Grant, Adams, Walla Walla and Franklin Counties, WA, Comment Period Ends: 12/31/2010, Contact: Charles Carnohan 509-575-5848 Ext 370.

EIS No. 20100435, Draft EIS, BR, CA, Suisun Marsh Habitat Management, Preservation, and Restoration Plan, Implementation, CA, Comment Period Ends: 12/20/2010, Contact: Doug Kleinsmith 916-978-5034.

EIS No. 20100436, Draft Supplement, USACE, FL, Martin County, Florida Hurricane and Storm Damage Reduction Project, Beach Nourishment Project Authorizes Construction of a Protective and Recreational Beach Along 4 Miles of Shorefront, Hutchinson Island, Martin County, FL, Comment Period Ends: 01/07/2011, Contact: Paul DeMarco 904-232-1897.

EIS No. 20100437, Draft EIS, FHWA, NM, I-25/Paseo del Norte Interchange Project, To Reduce Congestion and to Improve Safety, Albuquerque, Bernalillo County, NM, Comment Period Ends: 12/20/2010, Contact: Gregory L. Heitmann 505-820-2027.

EIS No. 20100438, Draft EIS, USACE, CO, Programmatic—Growth, Realignment, and Stationing of Army Aviation Assets, To Reduce Congestion and to Improve Safety, Right-of-Way Acquisition, Fort Carson, CO, Comment Period Ends: 12/20/2010, Contact: Mike Ackerman 210-295-2273.

Dated: November 2, 2010.
Ken Mittelholtz,
Deputy Director, NEPA Compliance Division, Office of Federal Activities.

[FR Doc. 2010-28018 Filed 11-4-10; 8:45 am]

BILLING CODE 6560-50-P